DEPARTMENT OF ENERGY

Federal Energy Regulatory Commission

[Docket No. RP03-568-000]

Questar Pipeline Company; Notice of Tariff Filing

August 25, 2003.

Take notice that on August 14, 2003, Questar Pipeline Company (Questar) tendered for filing has part of its FERC Gas Tariff, the following tariff sheets, with an effective date of October 1, 2003:

First Revised Volume No. 1.

Twenty-Ninth Revised Sheet No. 5.

Sixteenth Revised Sheet No. 6.

Original Volume No. 3.

Thirty-Sixth Revised Sheet No. 8.

Questar states that the filing incorporates into its storage and transportation rates, the revised annual charge adjustment (ACA) unit rate of $0.00210 per Dth.

Questar states that copies of the filing were served upon Questar's customers, the Public Service Commission of Utah and the Public Service Commission of Wyoming.

Any person desiring to be heard or to protest said filing should file a motion to intervene or a protest with the Federal Energy Regulatory Commission, 888 First Street, NE., Washington, DC 20426, in accordance with Sections 385.214 or 385.211 of the Commission's Rules and Regulations. All such motions or protests must be filed in accordance with the comment date below. Protests will be considered by the Commission in determining the appropriate action to be taken, but will not serve to make protestants parties to the proceedings. Any person wishing to become a party must file a motion to intervene. This filing is available for review at the Commission in the Public Reference Room or may be viewed on the Commission's Web site at http://www.ferc.gov using the “eLibrary” (FERRIS). Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the eLibrary (e-Filing) link.

Comment Date: August 29, 2003.

Linda Mitry,
Acting Secretary.

[FR Doc. 03-22220 Filed 8-29-03; 8:45 am]

BILLING CODE 6717-01-P